DEPARTMENT OF DEFENSE

Department of the Air Force HQ USAF Scientific Advisory Board

AGENCY: Department of the Air Force, DoD.

ACTION: Notice of meeting.

SUMMARY: Pursuant to Public Law 92-463, notice is hereby given of the forthcoming meeting of the Air Force Scientific Advisory Board Domain Integration Study. The purpose of this meeting is to gather information pertinent to the Domain Integration Study and to caucus regarding findings and recommendations. Because classified and contractor-proprietary information will be discussed, this meeting will be closed to the public.

DATES: 10-13 May 2005.

ADDRESSES: Rosslyn, VA.

FOR FURTHER INFORMATION CONTACT: Major Kyle Gresham, Air Force Scientific Advisory Board Secretariat, 1180 Air Force Pentagon, Rm 5D982, Washington DC 20330-1180, (703) 697-4808.

Albert Bodnar,
Air Force Federal Register Liaison Officer.

[FR Doc. 05-8267 Filed 4-25-05; 8:45 am]

BILLING CODE 5001-05-P